DEPARTMENT OF THE TREASURY

Office of the Comptroller of the Currency

Agency Information Collection Requirements; Information Collection Renewals; Comment Requests; Request for COVID-19 Vaccine Status and Proof of Vaccination

AGENCY: Office of the Comptroller of the Currency (OCC), Treasury.

ACTION: Notice and requests for comment.

SUMMARY: The OCC, as part of its continuing effort to reduce paperwork and respondent burden, invites the general public and other Federal agencies to take this opportunity to comment on the renewal of two information collections as required by the Paperwork Reduction Act of 1995 (PRA). In accordance with the requirements of the PRA, the OCC may not conduct or sponsor, and the respondent is not required to respond to, an information collection unless it displays a currently valid Office of Management and Budget (OMB) control number. The OCC is soliciting comment concerning the renewal of its information collection titled, “Request for COVID-19 Vaccine Status and Proof of Vaccination.”

DATES: You should submit written comments by May 9, 2022.

ADDRESSES: Commenters are encouraged to submit comments by email, if possible. You may submit comments by any of the following methods:

• Email: prainfo@occ.treas.gov.

• Mail: Chief Counsel's Office, Attention: Comment Processing, Office of the Comptroller of the Currency, Attention: 1557-0355, 400 7th Street SW, Suite 3E-218, Washington, DC 20219.

• Hand Delivery/Courier: 400 7th Street SW, Suite 3E-218, Washington, DC 20219.

• Fax: (571) 465-4326.

Instructions: You must include “OCC” as the agency name and “1557-0355” in your comment. In general, the OCC will publish comments on www.reginfo.gov without change, including any business or personal information provided, such as name and address information, email addresses, or phone numbers. Comments received, including attachments and other supporting materials, are part of the public record and subject to public disclosure. Do not include any information in your comment or supporting materials that you consider confidential or inappropriate for public disclosure.

You may review comments and other related materials that pertain to this information collection beginning on the date of publication of the second notice for these collections by the method set forth in the next bullet. Following the close of this notice's 60-day comment period, the OCC will publish a second notice with a 30-day comment period:

• Viewing Comments Electronically: Go to www.reginfo.gov. Hover over the “Information Collection Review” drop-down menu. From the “Currently under Review” drop-down menu select “Department of Treasury” and then click “submit.” These information collections can be located by searching: OMB control number “1557-0355” or “Request for COVID-19 Vaccine Status and Proof of Vaccination.”

Upon finding the appropriate information collection, click on the related “ICR Reference Number.” On the next screen, select “View Supporting Statement and Other Documents” and then click on the link to any comment listed at the bottom of the screen.

• For assistance in navigating www.reginfo.gov, please contact the Regulatory Information Service Center at (202) 482-7340.

FOR FURTHER INFORMATION CONTACT: Shaquita Merritt, OCC Clearance Officer, (202) 649-5490, Chief Counsel's Office, Office of the Comptroller of the Currency, 400 7th Street SW, Suite 3E-218, Washington, DC 20219.

SUPPLEMENTARY INFORMATION: Under the PRA (44 U.S.C. 3501-3520), Federal agencies must obtain approval from the Office of Management and Budget (OMB) for each collection of information that they conduct or sponsor. “Collection of information” is defined in 44 U.S.C. 3502(3) and 5 CFR 1320.3(c) to include agency requests or requirements that members of the public submit reports, keep records, or provide information to a third party. Section 3506(c)(2)(A) of title 44 requires Federal agencies to provide a 60-day notice in the Federal Register concerning each proposed collection of information, including each proposed extension of an existing collection of information, before submitting the collection to OMB for approval. To comply with this requirement, the OCC is publishing notice of the renewal of the emergency approval granted to the information collection set forth in this document.

Title: Request for COVID-19 Vaccine Status and Proof of Vaccination.”

OMB Control No.: 1557-0355.

Abstract: The President, by Executive order 13991 (January 20, 2021) established the Safer Federal Workforce Task Force (Task Force). The Task Force was established to give the heads of Federal agencies ongoing guidance to keep their employees safe and their agencies operating during the COVID-19 pandemic. The Task Force issued guidance, in accordance with the President's Executive Order 14043 (September 9, 2021), requiring Federal employees to be vaccinated against COVID-19 by November 22, 2021 absent a legally required exception. The Task Force issued guidance regarding individuals who start their government service after November 22, 2021, stating that those individuals should be fully vaccinated prior to their start date, except in limited circumstances where an accommodation is legally required. The guidance also provided that agencies should require documentation to prove vaccination status of those individuals prior to the enter on-duty date. To determine whether individuals who have been offered a position with the Office of the Comptroller of the Currency (OCC) are fully vaccinated during the onboarding process and before their enter on-duty date, in compliance with the Task Force guidance, the OCC developed the Appian vaccine attestation form in an online application (Attestation Form). The Attestation Form was developed, consistent with guidance issued by the Task Force and the U.S. Department of Treasury, to gather information from current and prospective employees regarding their vaccination status and proof of vaccination.

To ensure compliance with an applicable preliminary nationwide injunction, which may be supplemented, modified, or vacated, depending on the course of ongoing litigation, Office of the Comptroller of the Currency will take no action to implement or enforce the COVID-19 vaccination requirement pursuant to Executive Order 14043 on Requiring Coronavirus Disease 2019 Vaccination for Federal Employees while the injunction is in effect.

Type of Review: Extension, without change, of a currently approved collection.

Affected Public: Individuals.

Burden Estimate:

Estimated Number of Respondents: 250.

Estimated Burden per Respondent: 0.25 Hours.

Total Burden: 62.5 Hours.

Comments submitted in response to this notice will be summarized and included in the requests for OMB approval. All comments will become a matter of public record. Comments are invited on:

(a) Whether the collection of information is necessary for the proper performance of the functions of the agency, including whether the information has practical utility;

(b) The accuracy of the agency's estimates of the burden of the collection of information;

(c) Ways to enhance the quality, utility, and clarity of the information to be collected;

(d) Ways to minimize the burden of the collection on respondents, including through the use of automated collection techniques or other forms of information technology; and

(e) Estimates of capital or start-up costs and costs of operation, maintenance, and purchase of services to provide information.

Theodore J. Dowd,
Deputy Chief Counsel, Office of the Comptroller of the Currency.

[FR Doc. 2022-04810 Filed 3-7-22; 8:45 am]

BILLING CODE 4810-33-P